DEPARTMENT OF HEALTH AND HUMAN SERVICES

Centers for Disease Control and Prevention

Ethics Subcommittee, Advisory Committee to the Director, Centers for Disease Control and Prevention (CDC)

In accordance with section 10(a)(2) of the Federal Advisory Committee Act (Pub. L. 92-463), the Centers for Disease Control and Prevention announces the aforementioned subcommittee meeting.

Name: Ethics Subcommittee, Advisory Committee to the Director (ACD), CDC.

Times and Dates: 1 p.m.-5 p.m., November 13, 2008. 8 a.m.-3 p.m., November 14, 2008.

Place: Centers for Disease Control and Prevention, Thomas R. Harkin Global Communication Center, 1600 Clifton Road, Atlanta, Georgia 30333.

Status: Open to the public, limited only by the space available. The meeting room accommodates approximately 50 people. To accommodate public participation in the meeting, a conference telephone line will be available. The public is welcome to participate during the public comment periods by calling (866) 919-3560 and entering code 4168828. The public comment periods are tentatively scheduled for 4:30 p.m.-4:45 p.m. on November 13 and from 2:30 p.m.-2:45 p.m. on November 14, 2008.

Purpose: The Ethics Subcommittee will provide guidance to the ACD, CDC, regarding a broad range of public health ethics questions and issues arising from programs, scientists and practitioners.

Matters To Be Discussed: Agenda items will include the following topics: CDC's Healthiest Nation Initiative, priorities of the Advisory Committee to the Director, ethical guidance for ventilator distribution, ethical guidance for use of traveler restrictions, ethical guidance for public health emergency preparedness and response, survey of CDC staff about principles of ethical public health practice, development of a web-based course on public health ethics, and the CDC-Tuskegee University Public Health Ethics Fellowship.

For Further Information Contact: For security reasons, members of the public interested in attending the meeting should contact Drue Barrett, PhD, Designated Federal Officer, Ethics Subcommittee, CDC, 1600 Clifton Road, NE., M/S D-50, Atlanta, Georgia 30333. Telephone (404) 639-4690. E-mail: dbarrett@cdc.gov. The deadline for notification of attendance is November 7, 2008.

The Director, Management Analysis and Services Office, has been delegated the authority to sign Federal Register notices pertaining to announcements of meetings and other committee management activities, for both the Centers for Disease Control and Prevention and the Agency for Toxic Substances and Disease Registry.

Dated: October 15, 2008.
Elaine L. Baker,
Director, Management Analysis and Services Office, Centers for Disease Control and Prevention.

[FR Doc. E8-25126 Filed 10-21-08; 8:45 am]

BILLING CODE 4163-18-P